DEPARTMENT OF AGRICULTURE

Forest Service

Hood/Willamette Resource Advisory Committee (RAC)

AGENCY: Forest Service, USDA.

ACTION: Action of meeting.

SUMMARY: The Hood/Willamette Resource Advisory Committee (RAC) will meet on Thursday, May 15, 2003. The meeting is scheduled to begin at 10 a.m. and will conclude at approximately 4 p.m. The meeting will be held at The Resort at the Mountain; 68010 East Fairway; Welches, Oregon; (503) 622-3101. The tentative agenda includes: (1) Report on status of 2002 and 2003 projects; (2) Election of chairperson; (3) Decision on overhead rate for 2004 projects; (4) Presentation of 2004 Projects; and (5) Public Forum.

The Public Forum is tentatively scheduled to begin at 1 p.m. Time alloted for individual presentations will be limited to 3-4 minutes. Written comments are encouraged, particularly if the material cannot be presented within the time limits for the Public Forum. Written comments may be submitted prior to the May 15th meeting by sending them to Designated Federal Official Donna Short at the address given below. A field trip to visit Title II projects is scheduled for the next day, Friday, May 16, 2003 at the same location. The field trip will start at 8.

FOR FURTHER INFORMATION CONTACT: For more information regarding this meeting, contact Designated Federal Official Donna Short; Sweet Home Ranger District, 3225 Highway 20; Sweet Home, Oregon 97386; (541) 367-9220.

Dated: April 10, 2003.
Dallas J. Emch,
Forest Supervisor.

[FR Doc. 03-9298 Filed 4-15-03; 8:45 am]

BILLING CODE 3410-11-M